ENVIRONMENTAL PROTECTION AGENCY

40 CFR Parts 69, 80, and 86

[AMS-FRL-6845-4]

RIN 2060-AL69

Control of Air Pollution from New Motor Vehicles: Proposed Heavy-Duty Engine and Vehicle Standards and Highway Diesel Fuel Sulfur Control Requirements

AGENCY: Environmental Protection Agency.

ACTION: Proposed rule; document availability.

SUMMARY: On June 2, 2000, the U.S. Environmental Protection Agency (EPA or Agency) published a Notice of Proposed Rulemaking (NPRM) (see 65 FR 35430) proposing changes to standards for heavy-duty engines and sulfur fuel controls for highway diesel fuel. In the preamble of the June 2, 2000, NPRM we proposed to apply to heavy-duty highway engines and vehicles “not to exceed” (NTE) and supplemental steady state test provisions which were published as a proposed rule on October 29, 1999 (64 FR 58472) “Control of Emissions of Air Pollution from 2004 and Later Model Year Heavy-Duty Highway Engines and Vehicles; Revision of Light-Duty On-Board Diagnostics Requirements'' (2004 Rule).

The 2004 Rule was recently signed on July 31, 2000 but has not yet been submitted for publication in the Federal Register. To allow commenters as much time as possible to comment on the June 2, 2000, NPRM before the end of the comment period, the Agency is making the signed version of the 2004 Rule available on an EPA website listed in ADDRESSES. The end of the comment period for the June 2, 2000, NPRM is August 14, 2000.

DATES: The comment period for the June 2, 2000, NPRM remains open until August 14, 2000, for any parties wishing to comment.

ADDRESSES: Comments must be submitted to Margaret Borushko, U.S. EPA, National Vehicle and Fuel Emissions Laboratory, 2000 Traverwood, Ann Arbor, MI 48105. Telephone (734) 214-4334, FAX (734) 214-4816, E-mail borushko.margaret@epa.gov.

The 2004 Rule is located in the EPA Office of Transportation and Air Quality (OTAQ) Website: http://www.epa.gov/otaq/ (Look in “What's New” or under the “Heavy Trucks/Buses” topic.) and in the Air Docket, A-99-06.

Materials relevant to this rulemaking are contained in Docket No. A-99-06. The docket is located at The Air Docket (6102), Room M-1500, 401 M. St, SW., Washington, DC 20460, and may be viewed between 8 a.m. and 5:30 p.m., Monday through Friday except on government holidays. You can reach the Air Docket by telephone number at (202) 260-7548 and by facsimile at (202) 260-4400. We may charge a reasonable fee for copying docket material as provided in 40 CFR part 2.

FOR FURTHER INFORMATION CONTACT: Margaret Borushko, U.S. EPA, National Vehicle and Fuel Emissions Laboratory, 2000 Traverwood, Ann Arbor, MI 48105. Telephone (734) 214-4334, FAX (734) 214-4816, E-mail borushko.margaret@epa.gov.

Dated: July 31, 2000.
Robert Perciasepe,
Assistant Administrator for Air and Radiation.

[FR Doc. 00-19784 Filed 8-2-00; 8:45 am]

BILLING CODE 6560-50-P